DEPARTMENT OF THE INTERIOR

Bureau of Land Management

[LLMT921000-L51100000-GA0000-LVEME17CE500]

Notice of Lease Sale Coyote Creek Mining Company's Coal Lease-by-Application NDM 110277, Mercer County, ND

AGENCY: Bureau of Land Management, Interior.

ACTION: Notice of coal lease sale.

SUMMARY: Notice is hereby given that coal resources in lands in Mercer County, North Dakota, will be offered for competitive lease by sealed bid in accordance with the provisions of the Mineral Leasing Act of 1920, as amended.

DATES: The lease sale will be held at 10 a.m. Mountain Time on October 1, 2020. Sealed bids must be received by the Bureau of Land Management (BLM) Montana State Office Cashier on or before 9:30 a.m., September 17, 2020.

ADDRESSES: The lease sale will be held in the Main Conference Room of the BLM Montana State Office, 5001 Southgate Drive, Billings, Montana 59101-4669. Sealed bids must be submitted to the Cashier, BLM Montana State Office, at this same address. Social Distancing and limited seating will be applied during the sale due to Covid-19.

FOR FURTHER INFORMATION CONTACT: Joel Hartmann, by telephone at 406-200-3554, or by email at jhartmann@blm.gov. Persons who use telecommunication devices for the deaf (TDD) may call the Federal Relay Service (FRS) at 1-800-877-8339 to contact Mr. Hartmann during normal business hours. The FRS is available 24 hours a day, 7 days a week, to leave a message or question. You will receive a reply during normal business hours.

SUPPLEMENTARY INFORMATION: This sale is being held in response to a lease-by-application filed by Coyote Creek Mining Company (CCMC). These tracts are located in Mercer County, North Dakota, southwest of Beulah, North Dakota. The Federal coal resources to be offered are located in the following described lands:

Fifth Principal Meridian, North Dakota

T. 143 N., R. 89 W.,

Sec. 24, SW1/4;

Sec. 26, SE1/4.

The areas described aggregate 320.00 acres.

The coal in the tracts has one minable coal bed, which is designated as the Upper Beulah coal seam. This seam on average is approximately 9.4 feet thick. The tracts are adjacent to CCMC's current mining operations and contain approximately 5.23 million tons of coal. The coal quality in the Upper Beulah coal seam is as follows:

British Thermal Unit (BTU) | 6,879 BTU/lbs.
Moisture | 36.94%
Sulfur Content | 7.33%
Ash Content | 1.0%

The tracts will be leased to the qualified bidder of the highest cash amount, provided that the high bid meets or exceeds the BLM's estimate of the fair market value (FMV) of the tract. The minimum bid for the tract is $100 per acre or fraction thereof. The minimum bid is not intended to represent FMV. The authorized officer will determine if the bids meet FMV after the sale.

The sealed bids should be sent by certified mail, return receipt requested, or be hand delivered to the Public Room, BLM Montana State Office (see ADDRESSES), and clearly marked “Sealed Bid for NDM-110277 Coal Sale—Not to be opened before 10 a.m. on October 1, 2020.” The Public Room representative will issue a receipt for each hand-delivered bid. Bids received after 9:30 a.m. will not be considered. If identical high bids are received, the tying high bidders will be requested to submit follow-up sealed bids until a high bid is received. All tie-breaking sealed bids must be submitted within 15 minutes following the sale official's announcement at the sale that identical high bids have been received.

Prior to lease issuance, the high bidder, if other than the applicant, must pay the BLM the cost recovery fee in the amount of $133,600.57, in addition to all processing costs incurred by the BLM after the date of this sale notice (43 CFR 3473.2(f)).

A lease issued as a result of this offering will require payment of an annual rental of $3 per acre, or fraction thereof, and a royalty payable to the United States of 12.5 percent of the value of coal mined by surface methods.

Bidding instructions for the tracts offered and the terms and conditions of the proposed coal lease are included in the Detailed Statement of Lease Sale, with copies available at the BLM Montana State Office (see ADDRESSES). Documents for case file NDM-110277 are available for public inspection at the BLM Montana State Office Public Room.

(Authority: 43 CFR 3422.3-2)

John J. Mehlhoff,
Montana State Director.

[FR Doc. 2020-19105 Filed 8-28-20; 8:45 am]

BILLING CODE 4310-DN-P